DEPARTMENT OF HOMELAND SECURITY

Notice of Availability for the First Responder Guidance for Improving Survivability in Improvised Explosive Device and/or Active Shooter Incidents

AGENCY: Office of Health Affairs, DHS.

ACTION: Notice of Availability.

SUMMARY: The Department of Homeland Security Office of Health Affairs is making available to the public a guidance document titled, “First Responder Guidance for Improving Survivability in Improvised Explosive Device and/or Active Shooter Incidents.”

This document is available on the following DHS Web site: http://www.dhs.gov/publication/iedactive-shooter-guidance-first-responders.

SUPPLEMENTARY INFORMATION:

At the request of first responders and first receivers who have encountered mass casualties from Improvised Explosive Devices (IEDs) and/or active shooter incidents, this document was developed to provide guidance on how to better approach these incidents. This multi-disciplinary, Federal first responder guidance translates evidence-based response strategies from the U.S. military's vast experience in responding to and managing casualties from IED and/or active shooter incidents into the civilian first responder environment. Additionally, civilian best practices and lessons learned from similar incidents, both in the United States and abroad, are incorporated into this guidance. The recommendations presented—early, aggressive hemorrhage control; use of protective equipment (which includes ballistic vests, helmets, and eyewear); and greater first responder interoperability and incident management—will help to save lives by mitigating first responder risk and improving the emergent and immediate medical management of casualties encountered during IED and/or active shooter incidents.

FOR FURTHER INFORMATION CONTACT: William Seifarth, DHS Office of Health Affairs, telephone: 202-254-6077 or email: william.seifarth@dhs.gov..

Dated: June 3, 2015.
William Seifarth,
Deputy Director (Acting), Workforce Health and Medical Support Division, DHS Office of Health Affairs.

[FR Doc. 2015-14010 Filed 6-8-15; 8:45 am]

BILLING CODE 9110-9K-P